DEPARTMENT OF DEFENSE

Office of the Secretary

[Docket ID DoD-2019-OS-0133]

Submission for OMB Review; Comment Request

AGENCY: Office of the Under Secretary of Defense for Personnel & Readiness, DoD.

ACTION: 30-day information collection notice.

SUMMARY: The Department of Defense has submitted to OMB for clearance the following proposal for collection of information under the provisions of the Paperwork Reduction Act.

DATES: Consideration will be given to all comments received by March 27, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Data for Payment of Retired Personnel to Include Eligible Family Members; DD Form 2656, DD Form 2656-1, DD Form 2656-2, DD Form 2656-5, DD Form 2656-6, DD Form 2656-7, DD Form 2656-8, DD Form 2656-10; OMB Control Number 0704-0569.

Type of Request: Renewal.

Needs and Uses: DD Forms 2656 “Data for Payment of Retired Pay,” 2656-1 “Survivor Benefit Plan (SBP) Election Statement for Former Spouse Coverage,” 2656-2 “Survivor Benefit Plan (SBP) Termination Request,” 2656-5 “Reserve Component Survivor Benefit Plan (RCSBP) Election Certificate,” 2656-6 “Survivor Benefit Plan Election Change Certificate,” 2656-7 “Verification for Survivor Annuity,” 2656-8 “Survivor Benefit Plan (SBP) Automatic Coverage Fact Sheet,” 2656-10 “Survivor Benefit Plan (SBP) Former Spouse Request for Deemed Election,” are used by the Department of Defense to collect information regarding a uniformed service member's military retired pay and his or her election to participate in and designate beneficiaries under the Survivor Benefit Plan (SBP or RCSBP), as well as elections of the eligible family member(s) or Insurable Interest Beneficiary to receive coverage under Survivor Benefit Plan (SBP or RCSBP).

Affected Public: Individuals and Houses.

Frequency: As required.

DD Form 2656 “Data for Payment of Retired Personnel”:

Number of Respondents: 66,800.

Responses per Respondent: 1.

Annual Responses: 66,800.

Average Burden per Response: 15 minutes.

Annual Burden Hours: 16,700.

DD Form 2656-1 “Survivor Benefit Plan Election Statement for Former Spouse Coverage”:

Number of Respondents: 9,500.

Responses per Respondent: 1.

Annual Responses: 9,500.

Average Burden per Response: 15 minutes.

Annual Burden Hours: 2,375.

DD Form 2656-2 “Survivor Benefit Plan Termination Request”:

Number of Respondents: 7,500.

Responses per Respondent: 1.

Annual Responses: 7,500.

Average Burden per Response: 15 minutes.

Annual Burden Hours: 1,875.

DD Form 2656-5 “Reserve Component Survivor Benefit Plan Election Certificate”:

Number of Respondents: 5,900.

Responses per Respondent: 1.

Annual Responses: 5,900.

Average Burden per Response: 15 minutes.

Annual Burden Hours: 1,475.

DD Form 2656-6 “Survivor Benefit Plan Election Change Certificate”:

Number of Respondents: 16,900.

Responses per Respondent: 1.

Annual Responses: 16,900.

Average Burden per Response: 15 minutes.

Annual Burden Hours: 4,225.

DD Form 2656-7 “Verification for Survivor Annuity”:

Number of Respondents: 9,600.

Responses per Respondent: 1.

Annual Responses: 9,600.

Average Burden per Response: 15 minutes.

Annual Burden Hours: 2,400.

DD Form 2656-8 “Survivor Benefit Plan—Automatic Coverage Fact Sheet”:

Number of Respondents: 5,500.

Responses per Respondent: 1.

Annual Responses: 5,500.

Average Burden per Response: 15 minutes.

Annual Burden Hours: 1,375.

DD Form 2656-10 “Survivor Benefit Plan/Reserve Component Benefit Plan Request for Deemed Election”:

Number of Respondents: 6,250.

Responses per Respondent: 1.

Annual Responses: 6,250.

Average Burden per Response: 15 minutes.

Annual Burden Hours: 1,562.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: February 21, 2020.
Aaron T. Siegel,
Alternate OSD Federal Register Liaison Officer, Department of Defense.

[FR Doc. 2020-03857 Filed 2-25-20; 8:45 am]

BILLING CODE 5001-06-P